COMMITTEE FOR THE IMPLEMENTATION OF TEXTILE AGREEMENTS

Denial of Commercial Availability Request Under the African Growth and Opportunity Act (AGOA) and the United States - Caribbean Basin Trade Partnership Act (CBTPA)

April 22, 2003.

AGENCY: Committee for the Implementation of Textile Agreements (CITA).

ACTION: Denial of the petition alleging that lastol elastic yarn, for use in apparel articles, cannot be supplied by the domestic industry in commercial quantities in a timely manner.

SUMMARY: On February 21, 2003, the Chairman of CITA received a request from the Dow Chemical Company alleging that lastol elastic yarn, classified under items 5402.49.9005 and 5404.10.8005 of the Harmonized Tariff Schedule of the United States (HTSUS), cannot be supplied by the domestic industry in commercial quantities in a timely manner. It requested that apparel articles from such yarns, or from U.S.-formed fabric containing such yarns be eligible for preferential treatment under the AGOA and the CBTPA. Based on currently available information, CITA has determined that a substitutable product can be supplied by the domestic industry in commercial quantities in a timely manner and therefore denies the request.

FOR FURTHER INFORMATION CONTACT: Janet E. Heinzen, International Trade Specialist, Office of Textiles and Apparel, U.S. Department of Commerce, (202) 482-3400.

SUPPLEMENTARY INFORMATION:

Authority: Section 112 (b)(5)(B) of the AGOA, Section 213(b)(2)(A)(v)(II) of the Caribbean Basin Economic Recovery Act, as added by Section 211(a) of the CBTPA; Sections 1 and 6 of Executive Order No. 13191 of January 17, 2001.

BACKGROUND:

The AGOA and the CBTPA provide for quota- and duty-free treatment for qualifying textile and apparel products. Such treatment is generally limited to products manufactured from yarns or fabrics formed in the United States or a beneficiary country. The AGOA and the CBTPA also provide for quota- and duty-free treatment for apparel articles that are both cut (or knit-to-shape) and sewn or otherwise assembled in one or more beneficiary countries from fabric or yarn that is not formed in the United States or a beneficiary country, if it has been determined that such fabric or yarn cannot be supplied by the domestic industry in commercial quantities in a timely manner. In Executive Order No. 13191, the President delegated to CITA the authority to determine whether yarns or fabrics cannot be supplied by the domestic industry in commercial quantities in a timely manner under the AGOA and the CBTPA. On March 6, 2001, CITA published procedures that it will follow in considering requests. (66 FR 13502).

On February 21, 2003, the Chairman of CITA received a request from the Dow Chemical Company alleging that lastol elastic yarn, which is a crosslinked, heat resistant elastic yarn having elevated temperature elasticity comprising a cured, irradiated or crosslinked ethylene polymer, classified under items 5402.49.9005 and 5404.10.8005 of the HTSUS, for use in apparel articles, cannot be supplied by the domestic industry in commercial quantities in a timely manner. It requested that apparel articles from such yarns, or from U.S.-formed fabric containing such yarns, that are both cut (or knit-to shape) and sewn or otherwise assembled in one or more beneficiary countries be eligible for preferential treatment under the AGOA or the CBTPA.

On March 3, 2003, CITA solicited public comments regarding this request (68 FR 9997), particularly with respect to whether these fabrics can be supplied by the domestic industry in commercial quantities in a timely manner. On March 19, 2003, CITA and the Office of the U.S. Trade Representative offered to hold consultations with the relevant Congressional committees. We also requested the advice of the U.S. International Trade Commission and the relevant Industry Sector Advisory Committees.

CITA has determined that the domestic industry can supply a product substitutable for the lastol elastic yarn described in the petition in commercial quantities in a timely manner. On the basis of currently available information, including review of the request, public comment and advice received, and its understanding of the industry, CITA has determined that there is domestic capacity to supply a substitutable product in commercial quantities in a timely manner. The Dow Chemical Company's request is denied.

D. Michael Hutchinson,
Acting Chairman, Committee for the Implementation of Textile Agreements.

[FR Doc.03-10259 Filed 4-24-03; 8:45 am]

BILLING CODE 3510-DR-S